DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) will publish periodic summaries of proposed projects developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Healthy Schools, Healthy Communities User/Visit Surveys

The Bureau of Primary Health Care of HRSA is planning to conduct User/Visit Surveys of the Healthy Schools, Healthy Communities (HSHC) Program. The purpose of these surveys is to obtain nationally representative data about the patients of HSHC health centers and the services provided to them. The study consists of two parts. One is the User Survey, which involves interviewing HSHC patients or their parents about the patients' health and health care. The second is the Visit Survey, in which patient visit data will be collected from medical records in order to find out what health services are being used by patients. The data collected will provide policymakers with a better understanding of the services students are receiving at HSHC health centers and how well these centers are meeting the needs of students. The surveys will provide new information about health care received in HSHC settings.

Data from the surveys will provide quantitative information on the population served by the HSHC program, specifically: (a) Sociodemographic characteristics, (b) health care access and utilization, (c) health status and morbidity, (d) health care experiences and risk behaviors, (e) content of medical encounters, (f) preventive care (g) and patient satisfaction. These surveys will provide data useful to the program and will enable HRSA to provide data required by Congress under the Government Performance and Results Act of 1993.

The estimated burden on respondents is as follows:

Respondents | Number of Respondents | Hours per Respondent | Total Hour Burden
Adolescent Users of HSHC Clinics | 750 | .5 | 375
Guardians (Proxies) of Users of HSHC Clinics | 750 | .5 | 375
Medical Records Copied by Health Center Personnel | * 1500 | .25 | 385
Total | 1500 |  | 1,135
* Medical records.

Send comments to Susan Queen, Ph.D., HRSA Reports Clearance Officer, Room 14-33, Parklawn Building, 5600 Fishers Lane, Rockville, MD 20857. Written comments should be received within 60 days of this notice.

Dated: July 31, 2001.
Jane M. Harrison,
Director, Division of Policy Review and Coordination.

[FR Doc. 01-19627 Filed 8-6-01; 8:45 am]

BILLING CODE 4165-15-P